DEPARTMENT OF TRANSPORTATION

Federal Aviation Administration

14 CFR Part 71

[Docket No. FAA-2004-17345; Airspace Docket No. 04-ASO-5]

Amendment of Class D and E Airspace; Goldsboro, NC

AGENCY: Federal Aviation Administration (FAA), DOT.

ACTION: Final rule.

SUMMARY: This action amends Class D and E5 airspace at Goldsboro, NC. As a result of an evaluation, it has been determined a modification should be made to the Goldsboro, NC, Class D and E5 airspace areas to contain the Tactical Air Navigation (TACAN) or Instrument Landing System (ILS) Standard Instrument Approach Procedures (SIAPs) to Seymour Johnson AFB. Additional surface area airspace and controlled airspace extending upward 700 feet Above Ground Level (AGL) is needed to contain the SIAP.

DATES: Effective Date: 0901 UTC, August 5, 2004.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On April 13, 2004, the FAA proposed to amend part 71 of the Federal Aviation Regulations (14 CFR part 71) by amending Class D and E5 airspace at Goldsboro, AL, (69 FR 19359). This action provides adequate Class D and E5 airspace for IFR operations at Seymour Johnson AFB. Designations for Class D airspace areas extending upward from the surface of the earth and Class E airspace designations for airspace areas extending upward from 700 feet or more above the surface of the earth are published in Paragraphs 5000 and 6005 respectively, of FAA Order 7400.9L, dated September 2, 2004, and effective September 16, 2004, which is incorporated by reference in 14 CFR part 71.1. The Class D and E designations listed in this document will be published subsequently in the Order.

Interested parties were invited to participate in this rulemaking proceeding by submitting written comments on the proposal to the FAA. No comments objecting to the proposal were received.

The Rule

This amendment to part 71 of the Federal Aviation Regulations (14 CFR part 71) amends Class D and E5 airspace at Goldsboro, NC.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 107(g), 40103, 40113, 40120, E.O. 10854, 24 FR 9565, 3 CFR, 1959-1963 Comp., p. 380.

§ 71.1 [Amended]

2. The incorporation by reference in 14 CFR 71.1 of Federal Aviation Administration Order 7400.9L, Airspace Designations and Reporting Points, dated September 2, 2004, and effective September 16, 2004, is amended as follows:

Paragraph 5000 Class D Airspace

* * * * *

ASO NC D Goldsboro, NC [Revised]

Goldsboro, Seymour Johnson AFB, NC

(Lat. 35°20′22″N., long. 77°57′38″W.)

That airspace extending upward from the surface to and including 2,600 feet MSL within a 5.7-mile radius of Seymour Johnson AFB.

* * * * *

Paragraph 6005 Class E Airspace Designated as Surface Areas

* * * * *

ASO NC E5 Goldsboro, NC [Revised]

Goldsboro, Seymour Johnson, AFB, NC

(Lat. 35°20′22″ N., long. 77°57′38″ W.)

Seymour Johnson TACAN

(Lat. 35°20′06″ N., long. 77°58′18″ W.)

Goldsboro-Wayne Municipal Airport

(Lat. 35°27′38″ N., long. 77°57′54″ W.)

Mount Olive Municipal Airport

(Lat. 35°13′20″ N., long. 78°02′16″ W.)

That airspace extending upward from 700 feet above the surface within a 6.6-mile radius of Seymour Johnson AFB and within 2.5 miles each side of the Seymour Johnson TACAN 265° radial extending from the 6.6-mile radius to 12 miles west of the TACAN; within a 5-mile radius of the Goldsboro-Wayne Municipal Airport and within a 5-mile radius of Mount Olive Municipal Airport.

* * * * *

Issued in College Park, Georgia, on May 26, 2004.
Jeffrey U. Vincent,
Acting Manager, Air Traffic Division, Southern Region.

[FR Doc. 04-12982 Filed 6-8-04; 8:45 am]

BILLING CODE 4910-13-M